DEPARTMENT OF THE INTERIOR

National Park Service

Final Environmental Impact Statement for the Fort Davis National Historic Site; Texas

AGENCY: National Park Service, Department of the Interior.

ACTION: Notice of Availability of a Record of Decision on the Final Environmental Impact Statement for the Fort Davis National Historic Site, Texas.

SUMMARY: Pursuant to § 102(2)(C)of the National Environmental Policy Act of 1969, Public Law 91-190, 83 Stat. 852, 853, codified as amended at 42 U.S.C. 4332(2)(C), the National Park Service announces the availability of the Record of Decision for the Final General Management Plan and Environmental Impact Statement, Fort Davis National Historic Site, Texas. On November 5, 2002, the Director, Intermountain Region approved the Record of Decision for the project. As soon as practicable, the National Park Service will begin to implement the Preferred Alternative contained in the FEIS issued on September 23, 2002. The following course of action will occur under the preferred alternative. The selected alternative provides an overall combination of actions to restore natural processes, preserve cultural resource values, reduce harmful environmental impacts and continue to provide opportunities for high quality visitor experiences based on resource values. With the exceptions described below, the current level of development and interpretation and the pattern of visitor use will be maintained. Alternative C quality will enhance visitor services and provide for the preservation and protection of cultural and natural resources. This alternative provides the balance and flexibility necessary to accomplish both of these objectives in a realistic manner. Change in the fort's outward appearance will be minimal. There will be no further major exterior restoration or modern development. Well-balanced preservation, resource protection, and interpretive programs would complement one another. Existing buildings, ruins, and foundations will undergo stabilization and conservation measures so as to preserve their historical integrity. Broader interpretive themes highlighting the more complex role of Fort Davis in the history of the American West would complement existing interpretive programs. The interior of the post hospital will be partially restored and refurnished to more fully tell the story of Fort Davis and therefore provide the visitors with a more comprehensive learning experience. This restoration and refurnishing project would be dependent on partnerships resulting in private sector funding. The park will continue to encourage adjacent landowners to use their land in ways that complement park values, thereby promoting the natural and scenic character of the landscape.

This course of action and four alternatives were analyzed in the Draft and Final Environmental Impact Statements. The full range of foreseeable environmental consequences was assessed, and appropriate mitigating measures were identified.

The Record of Decision includes a statement of the decision made, synopses of other alternatives considered, the basis for the decision, a description of the environmentally preferable alternative, a finding on impairment of park resources and values, a listing of measures to minimize environmental harm, an overview of public involvement in the decision-making process, and a Statement of Findings

FOR FURTHER INFORMATION CONTACT: Jerry Yarbrough, Fort Davis NHS, 1379, Lieutenant Flipper Dr., Fort Davis, TX 79734; 915-426-3225 (P), Jerry_Yarbrough@nps.gov.

SUPPLEMENTARY INFORMATION: Copies of the Record of Decision may be obtained from the contact listed above or online at http://planning.nps.gov/parkweb/what.cfm?RecordID=56.

Dated: November 5, 2002.
Michael Snyder,
Deputy Director, Intermountain Region, National Park Service.

[FR Doc. 03-996 Filed 1-15-03; 8:45 am]

BILLING CODE 4310-70-P